DEPARTMENT OF HOUSING AND URBAN DEVELOPMENT

[Docket No. FR-7006-N-01]

60-Day Notice of Proposed Information Collection: Evaluation of Public Housing Program Activities

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: April 2, 2018.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW (L'Enfant Plaza, Room 2206), Washington, DC 20410; telephone 202-402-4109, (this is not a toll-free number). Persons with hearing or speech impairments may access this number via TTY by calling the Federal Information Relay Service at (800) 877-8339. Copies of available documents submitted to OMB may be obtained from Ms. Mussington.

SUPPLEMENTARY INFORMATION: This notice informs the public that HUD is seeking approval from OMB for the information collection described in Section A.

A. Overview of Information Collection

Title of Information Collection: Evaluation of Public Housing Program Activities.

OMB Approval Number: Pending OMB Approval.

Type of Request: New Collection.

Form Number: Not applicable (online questionnaire).

Description of the need for the information and proposed use: In December of 2016, HUD finalized a rule requiring each and every public housing agency (PHA) to implement a Smoke-Free policy by July 30, 2018 (effective date). The Smoke-Free public housing rule is codified under 24 CFR parts 965.651, 965.653, 965.655, and 966.4. PHAs are required to have amended all resident leases by the effective date, at which point the policy must be enforced in full. Smoking of “lit tobacco products” such as cigarettes and hookahs is banned indoors and in outdoor areas within 25 feet of buildings. PHAs have the option of modifying the policy to expand the scope to e-cigarettes and/or additional areas on the property (e.g., playgrounds). PHAs may also opt to provide designated smoking areas (DSAs) outside the 25-foot boundary to provide shelter for smokers who reside in their public housing units. Residents who smoke are not required to quit, but if they wish to do so, then cessation services may be provided to them. HUD may issue other policies in the future that pertain to health or otherwise affect public housing agency operations. The survey will gather data on policies and programs pertaining to public housing operations. The information will be collected via online survey such as Qualtrics or SurveyMonkey, and will consist of approximately 40 questions, including Likert-type survey items and free response boxes. The submissions will be accessed by the Office of Public and Indian Housing (PIH) in to evaluate the overall implementation effectiveness and identify areas that are experiencing difficulty in their implementation of policies. PIH may develop additional resources and/or target local resources that may be able to assist in their efforts.

Respondents (i.e. affected public): PHA leadership and staff.

Information collection | Number of respondents | Frequency of response | Responses per annum | Burden hour per response | Annual burden hours | Hourly cost per response | Annual cost
Completing online questionnaire | 870 | 1 | 1 | .50 | 435 | $30.47 | $13,254.45
Total | 870 | 1 | 1 | .50 | 435 | 30.47 | 13,254.45

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Date: January 12, 2018.
Merrie Nichols-Dixon,
Director, Office of Policy, Programs and Legislative Initiatives.

[FR Doc. 2018-01812 Filed 1-30-18; 8:45 am]

BILLING CODE 4210-67-P